DEPARTMENT OF COMMERCE

International Trade Administration

(A-412-801)

Ball Bearings and Parts Thereof from the United Kingdom: Preliminary Results of Changed-Circumstances Review

AGENCY: Import Administration, International Trade Administration, Department of Commerce.

SUMMARY: The Department of Commerce is conducting a changed-circumstances review of the antidumping duty order on ball bearings and parts thereof from the United Kingdom pursuant to section 751(b) of the Tariff Act of 1930, as amended. We preliminarily determine that SKF (UK) Ltd. is the successor-in-interest to SNFA Bearings Ltd. Interested parties are invited to comment on these preliminary results.

EFFECTIVE DATE: May 27, 2008.

FOR FURTHER INFORMATION CONTACT: Kristin Case at (202) 482-3174 or Richard Rimlinger at (202) 482-4477, AD/CVD Operations, Office 5, Import Administration, International Trade Administration, U.S. Department of Commerce, 14th Street and Constitution Avenue, NW, Washington, DC 20230.

SUPPLEMENTARY INFORMATION:

Background

The Department of Commerce (the Department) published an antidumping duty order on ball bearings and parts thereof from the United Kingdom on May 15, 1989. See Antidumping Duty Orders and Amendments to the Final Determinations of Sales at Less Than Fair Value: Ball Bearings and Cylindrical Roller Bearings and Parts Thereof From the United Kingdom, 54 FR 20910 (May 15, 1989). On July 12, 2001, the Department revoked the antidumping duty order on ball bearings and parts thereof from the United Kingdom with respect to SNFA Bearings Ltd. (SNFA UK). See Antifriction Bearings (Other Than Tapered Roller Bearings) and Parts Thereof From France, Germany, Italy, Japan, Sweden, and the United Kingdom: Final Results of Antidumping Duty Administrative Reviews and Revocation of Orders in Part, 66 FR 36551 (July 12, 2001).

On January 26, 2007, SNFA UK, a subsidiary of SNFA S.A.S.U. (SNFA), and SKF UK Ltd. (SKF UK) notified the Department of a change in ownership of SNFA. Specifically, SNFA UK and SKF UK notified the Department that, on July 4, 2006, through its subsidiary SKF Holding France S.A., AB SKF purchased all outstanding shares of SNFA. On March 9, 2007, we self-initiated a changed-circumstances review of the antidumping duty order on ball bearings and parts thereof from the United Kingdom. See Ball Bearings and Parts Thereof from Italy and the United Kingdom: Initiation of Antidumping Duty Changed-Circumstances Reviews, 72 FR 10643 (March 9, 2007).¹ On January 30, 2008, SKF UK and SNFA UK notified the Department that the companies had moved SNFA UK's production facilities to the grounds of SKF UK's Stonehouse operations (Stonehouse) ² and that SNFA UK's assets had been legally transferred to SKF UK. SKF UK and SNFA UK also explained that, with the asset transfer, SNFA UK began operating as a part of SKF UK (referred hereinafter as SKF UK's SNFA operations). SKF UK and SNFA UK asserted that, unless the Department determines that an operational merger has occurred between SKF UK's Stonehouse and SNFA operations, the Department should determine that SKF UK and SKF UK's SNFA operations are entitled to separate treatment under the antidumping law.

¹ On October 26, 2007, we rescinded the changed-circumstances review of the antidumping duty order on ball bearings and parts thereof from Italy. See Ball Bearings and Parts Thereof from France and Italy: Rescission of Antidumping Duty Changed-Circumstances Reviews, 72 FR 60798 (October 26, 2007).

² SKF UK produces ball bearings only at its Stonehouse operations.

Scope of the Order

The products covered by the order are ball bearings and parts thereof. These products include all bearings that employ balls as the rolling element. Imports of these products are classified under the following categories: antifriction balls, ball bearings with integral shafts, ball bearings (including radial ball bearings) and parts thereof, and housed or mounted ball bearing units and parts thereof.

Imports of these products are classified under the following Harmonized Tariff Schedules of the United States (HTSUS) subheadings: 3926.90.45, 4016.93.00, 4016.93.10, 4016.93.50, 6909.19.5010, 8431.20.00, 8431.39.0010, 8482.10.10, 8482.10.50, 8482.80.00, 8482.91.00, 8482.99.05, 8482.99.2580, 8482.99.35, 8482.99.6595, 8483.20.40, 8483.20.80, 8483.50.8040, 8483.50.90, 8483.90.20, 8483.90.30, 8483.90.70, 8708.50.50, 8708.60.50, 8708.60.80, 8708.70.6060, 8708.70.8050, 8708.93.30, 8708.93.5000, 8708.93.6000, 8708.93.75, 8708.99.06, 8708.99.31, 8708.99.4960, 8708.99.50, 8708.99.5800, 8708.99.8080, 8803.10.00, 8803.20.00, 8803.30.00, 8803.90.30, and 8803.90.90.

As a result of recent changes to the Harmonized Tariff Schedule, effective February 2, 2007, the subject merchandise is also classifiable under the following additional HTS item numbers: 8708.30.5090, 8708.40.7500, 8708.50.7900, 8708.50.8900, 8708.50.9150, 8708.50.9900, 8708.80.6590, 8708.94.75, 8708.95.2000, 8708.99.5500, 8708.99.68, and 8708.99.8180.

Although the HTSUS item numbers above are provided for convenience and customs purposes, the written description of the scope of the order remains dispositive.

Preliminary Results

In conducting this changed-circumstances review pursuant to section 751(b) of the Tariff Act of 1930, as amended (the Act), the Department has conducted a successor-in-interest analysis. In making a successor-in-interest determination, the Department examines several factors including, but not limited to, changes in the following: (1) management; (2) production facilities; (3) supplier relationships; (4) customer base. See Brake Rotors From the People's Republic of China: Final Results of Changed Circumstances Antidumping Duty Administrative Review, 70 FR 69941 (November 18, 2005) and Notice of Final Results of Changed-Circumstances Antidumping Duty Administrative Review: Polychloroprene Rubber from Japan, 67 FR 58 (January 2, 2002). While no single factor or combination of factors will necessarily provide a dispositive indication of a successor-in-interest relationship, the Department will generally consider the new company to be the successor to the previous company if the new company's resulting operation is not materially dissimilar to that of its predecessor. See Fresh and Chilled Atlantic Salmon from Norway: Final Results of Changed Circumstances Antidumping Duty Administrative Review, 64 FR 9979 (March 1, 1999), and Industrial Phosphoric Acid from Israel: Final Results of Antidumping Duty Changed Circumstances Review, 59 FR 6944 (February 4, 1994). Thus, if the evidence demonstrates that, with respect to the production and sale of subject merchandise, the new company operates as the same business entity as the former company, the Department will accord the new company the same antidumping treatment as its predecessor.

We preliminarily find that the asset transfer, relocation of SNFA UK's production facilities, and degree of management integration demonstrate that SKF UK is the successor-in-interest to pre-acquisition SNFA UK. Due to the business-proprietary nature of this decision, details are provided in Memorandum to Laurie Parkhill, entitled “Preliminary Results of Changed-Circumstances Review of the Antidumping Duty Order on Ball Bearings and Parts Thereof from the United Kingdom,” dated May 19, 2008. As a result of our analysis, we also preliminarily determine that SKF UK and SNFA UK are no longer entitled to separate treatment under the antidumping law.

Public Comment

Case briefs from interested parties may be submitted not later than 30 days after the date of publication of this notice of preliminary results of changed-circumstances review. Rebuttal briefs from interested parties, limited to the issues raised in the case briefs, may be submitted not later than five days after the time limit for filing the case briefs or comments. Parties who submit case briefs or rebuttal briefs in this proceeding are requested to submit with each argument a statement of the issue, a summary of the arguments not exceeding five pages, and a table of statutes, regulations, and cases cited.

Interested parties who wish to request a hearing or to participate in a hearing if a hearing is requested must submit a written request to the Assistant Secretary for Import Administration within 30 days of the date of publication of this notice. In accordance with 19 CFR 351.310(c), requests should contain the following information: (1) the party's name, address, and telephone number; (2) the number of participants; (3) a list of issues to be discussed. Issues raised in the hearing will be limited to those raised in the case and rebuttal briefs. If requested, any hearing will be held two days after the scheduled date for submission of rebuttal briefs.

The Department will publish in the Federal Register a notice of the final results of this changed-circumstances review, including the results of its analysis of issues raised in any written briefs or at the hearing.

During the course of this changed-circumstances review, we will not change any cash-deposit instructions on the merchandise subject to this changed-circumstances review unless a change is determined to be warranted pursuant to the final results of this review.

We are issuing and publishing these preliminary results and notice in accordance with sections 751(b) and 777(i)(1) of the Act and 19 CFR 351.216.

Dated: May 19, 2008.
Ronald K. Lorentzen,
Deputy Assistant Secretary for Import Administration.

[FR Doc. E8-11744 Filed 5-23-08; 8:45 am]

BILLING CODE 3510-DR-S